DEPARTMENT OF THE INTERIOR

Bureau of Land Management

[LLCAD01000 L12100000.MD0000 15XL1109AF]

Meeting of the California Desert District Advisory Council

SUMMARY: Notice is hereby given, in accordance with Public Laws 92-463 and 94-579, that the California Desert District Advisory Council (DAC) to the Bureau of Land Management (BLM), U.S. Department of the Interior, will meet in formal session on Saturday, May 9, 2015, from 9 a.m. to 4:30 p.m. at the University of California Riverside Extension Building, Conference Rooms D-E, located at 1200 University Avenue, Riverside, CA. A Friday, May 8, 2015 resource area field trip is not scheduled. Agenda for the Saturday meeting will include updates by council members, the BLM California Desert District Manager, five Field Managers, and council subgroups. The focus topic for the meeting will be the West Mojave (WEMO) Planning Area Route Network Project. Final agenda items for the public meeting will be posted on the DAC Web page at http://www.blm.gov/ca/st/en/info/rac/dac.html when finalized.

FOR FURTHER INFORMATION CONTACT: Stephen Razo, BLM California Desert District External Affairs, (951) 697-5217. Persons who use a telecommunications device for the deaf (TDD) may call the Federal Information Relay Service (FIRS) at 1-800-877-8339 to contact the above individual during normal business hours. The FIRS is available 24 hours a day, 7 days a week, to leave a message or question with the above individuals. You will receive a reply during normal hours.

SUPPLEMENTARY INFORMATION: All DAC meetings are open to the public. Public comment for items not on the agenda will be scheduled at the beginning of the meeting Saturday morning. Time for public comment is made available by the council chairman during the presentation of various agenda items, and is scheduled at the end of the meeting for topics not on the agenda.

While the Saturday meeting is tentatively scheduled from 9 a.m. to 4:30 p.m., the meeting could conclude prior to 4:30 p.m. should the council conclude its presentations and discussions. Therefore, members of the public interested in a particular agenda item or discussion should schedule their arrival accordingly.

Written comments may be filed in advance of the meeting for the California Desert District Advisory Council, c/o Bureau of Land Management, External Affairs, 22835 Calle San Juan de Los Lagos, Moreno Valley, CA 92553. Written comments also are accepted at the time of the meeting and, if copies are provided to the recorder, will be incorporated into the minutes.

Dated: April 7, 2015.
Teresa A. Raml,
California Desert District Manager.

[FR Doc. 2015-08778 Filed 4-15-15; 8:45 am]

BILLING CODE 4310-40-P